DEPARTMENT OF AGRICULTURE

Forest Service

Information Collection; Grazing Permit Administration Forms

AGENCY: Forest Service, USDA.

ACTION: Notice; request for comment.

SUMMARY: In accordance with the Paperwork Reduction Act of 1995, the Forest Service is seeking comments from all interested individuals and organizations on the extension (with no revision) of a currently approved information collection, Grazing Permit Administration Forms.

DATES: Comments must be received in writing on or before August 30, 2021 to be assured of consideration. Comments received after that date will be considered to the extent practicable.

ADDRESSES: Commenters are encouraged to submit comments by email, if possible. You may submit comments by any of the following methods:

• Email: mary.monson@usda.gov.

• Mail: USDA Forest Service, Director, Forest Management, Range Management and Vegetation Ecology, Attention: Kaylene Monson, 1400 Independence Ave. SW, Mailstop Code: 1103, Washington, DC 20250-1103.

• Hand Delivery/Courier: Forest Service, USDA, 1400 Independence Avenue SW, Washington, DC 20250.

Comments received in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement and/or any comments received. Requests should be emailed to mary.monson@usda.gov.

FOR FURTHER INFORMATION CONTACT: Kaylene Monson, Forest Management, Rangeland Management and Vegetation Ecology at 406-217-1358 or email mary.monson@usda.gov. Individuals who use telecommunication devices for the deaf (TDD) may call the Federal Information Relay Service (FIRS) at 1-800-877-8339 twenty-four hours a day, every day of the year, including holidays.

SUPPLEMENTARY INFORMATION: Title: Grazing Permit Administration Forms.

OMB Number: 0596-0003.

Expiration Date of Approval: November 30, 2021.

Type of Request: Extension with no Revision of a currently approved information collection.

Abstract: This information collection extension is necessary to continue allowing proper administration of livestock grazing programs on National Forest System (NFS) lands. Domestic livestock grazing occurs on approximately 94 million acres of NFS lands. Grazing on NFS lands is subject to authorization and administrative oversight by the Forest Service. The information collected by the Forest Service is the minimum required for issuance and administration of grazing permits, including fee collections, as authorized by the Federal Land Policy and Management Act (FLPMA) of 1976, as amended (43 U.S.C. 1700 et seq.) and United States Department of Agriculture regulations at 36 CFR 222, subparts A and C. Similar information is not available from any other source. Some of the forms have been updated for technical corrections; these edits do not change the intent, amount, or type of information collected from the public.

Forest Service officials currently use the following forms to collect the information necessary to administer this program.

FS-2200-001; Refund, Credit, or Transfer Application collects the following information:

Estimate of Annual Burden: 20 minutes to complete the form.

• Name and mailing address;

• Permit number;

• National Forest or Grassland and Ranger District;

• Purpose of application: Credit on next year's fees, refund of overpaid fees, or transfer of credit to another account;

• The allotment, kind of livestock and number;

• Period rangeland not used; From and To dates;

• Reason for less use than permitted; and

• Signature of Permittee.

Information collected on this form enables the Forest Service to evaluate a grazing permittee's request for refund, credit, or transfer of the unused portion of the preceding season's grazing fees paid to the Forest Service for the occupancy of the National Forest System lands by permitted livestock.

FS-2200-002; Application for Temporary Grazing or Livestock Use Permit collects the following information:

Estimate of Annual Burden: 20 minutes to complete the form.

• Name and address of applicant;

• Livestock number, kind, and class;

• Period of use;

• Grazing allotment; and

• Signature of Applicant.

Information collected on this form enables the Forest Service to determine whether individuals qualify for a temporary grazing or livestock use permit, which authorizes grazing on certain NFS lands for a period not to exceed one year. The Forest Service uses the information on this form to determine whether the applicant is likely to comply with grazing permit terms and conditions.

FS-2200-012; Waiver of Term Grazing Permit enables the Forest Service to terminate an individual's grazing privileges on certain NFS lands based upon that individual's sale or transfer of base property, permitted livestock, or both to another individual who desires to acquire a new grazing permit. The waiver enables the Forest Service to cancel the grazing permit held by the individual who sold or transferred the base property, permitted livestock, or both; and to identify the individual who acquired the base property, permitted livestock, or both as the preferred applicant for a new grazing permit.

Estimate of Annual Burden: 30 minutes to complete the form.

• Name and address of permittee;

• Permit number;

• Date Permit Issued;

• Livestock number and livestock class;

• Period of use;

• Allotment;

• National Forest or Grassland and Ranger District;

• Date of Sale;

• Name and address of Purchaser;

• Livestock Number and Class OR Base Property Description;

• Signature of Permittee; and

• Signature of Purchaser.

FS-2200-013; Escrow Waiver of Term Grazing Permit Privileges collects information on loans made to permittees. The Forest Service uses the information to record the name and address of a permittee's lender, the amount of the loan, and the due date for repayment. The information assists Agency officials in determining whether to hold in escrow, on behalf of the lender, all of the privileges associated with the grazing permit except the privilege to graze. The Forest Service uses the collected information to (1) notify the lender of important issues associated with the administration of the grazing permit and (2) facilitate the transfer of a grazing permit to the lender if the permittee defaults on the loan.

Estimate of Annual Burden: 20 minutes to complete the form.

• Name and address of permittee;

• Permit number;

• Date Permit Issued;

• Livestock number and livestock class;

• National Forest or Grassland and Ranger District;

• Financial Institution Name and address;

• Livestock Number and Class OR Base Property Description;

• Amount of Loan and payable date; and

• Signature of Permittee.

FS-2200-016; Application for Term Grazing Permit collects the following information:

Estimate of Annual Burden: 30 minutes to complete the form.

• Name and address of applicant;

• Livestock Number, Kind and Class;

• Period of use;

• Grazing allotment; and

• Signature of applicant.

The information collected on this form enables the Forest Service to evaluate an applicant's eligibility and qualification to hold a term grazing permit authorizing the use of National Forest System lands for livestock grazing purposes, to determine the applicant's ability to comply with grazing permit terms and conditions, and to notify the applicant in writing of matters associated with the administration of permitted grazing including, but not limited to, bills for the fees associated with the permitted grazing.

FS-2200-017; Application for Term Private Land Grazing Permit collects the following information:

Estimate of Annual Burden: 20 minutes to complete the form.

• Name and address of applicant;

• Livestock Number, Kind and Class;

• Period of use;

• Grazing allotment; and

• Signature of applicant.

The information collected on this form enables the Forest Service to evaluate an applicant's eligibility and qualification to hold a term private land-grazing permit, which authorizes the use of National Forest System lands and private lands owned or controlled by the applicant for livestock grazing purposes. The information also enables the Forest Service to determine the applicant's ability to comply with grazing permit terms and conditions, and to notify the applicant in writing of matters associated with the administration of permitted grazing.

FS-2200-025; Ownership Statement by Corporation, Partnership, or Other Legal Entity collects the following information:

Estimate of Annual Burden: 10 minutes to complete the form.

• Name of corporation, partnership, or other legal entity;

• The name, title, signing authority, mailing address, shares owned, or percent of ownership of each stockholder, partner, or member of the entity; and

• Signature of applicant.

The information on this form enables the Forest Service to evaluate whether a corporation, partnership, or other legal entity is eligible and qualified to hold a term grazing permit authorizing grazing on certain National Forest System lands, whether the entity is authorized to conduct business in the state in which the National Forest System lands to be grazed are located, and which shareholders, partners, or members are authorized to sign official documents on behalf of the legal entity.

Type of Respondents: Individuals, Families, or Businesses (especially those owning and operating ranches and farms).

Estimated Annual Number of Respondents: 1,290.

Estimated Annual Number of Responses per Respondent: 1.

Estimated Total Annual Burden on Respondents: 504 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Barnie Gyant,
Associate Deputy Chief, National Forest System.

[FR Doc. 2021-13795 Filed 6-28-21; 8:45 am]

BILLING CODE 3411-15-P